NATIONAL AERONAUTICS AND SPACE ADMINISTRATION

[Notice 08-006]

National Environmental Policy Act; Constellation Program

AGENCY: National Aeronautics and Space Administration (NASA)

ACTION: Notice of availability of the Final Constellation Programmatic Environmental Impact Statement (PEIS)

SUMMARY: Pursuant to the National Environmental Policy Act of 1969, as amended (NEPA) (42 U.S.C. 4321 et. seq.), the Council on Environmental Quality Regulations for Implementing the Procedural Provisions of NEPA (40 CFR Parts 1500-1508), NASA's NEPA policy and procedures (14 CFR Part 1216, subpart 1216.3), and Executive Order 12114, NASA has prepared and issued the Final PEIS for the proposed Constellation Program to assist in the NASA decision making process.

The Proposed Action (Preferred Alternative) is to continue preparations for and to implement the Constellation Program. The focus of the Constellation Program is the development of the flight systems and Earth-based ground infrastructure required to enable the United States to have continued access to space and to enable future human missions to the International Space Station, the Moon, Mars, and beyond. The Constellation Program also would be responsible for developing and testing flight hardware, and performing mission operations once the infrastructure is sufficiently developed. The only alternative to the Proposed Action discussed in detail is the No Action Alternative where NASA would not continue preparations for nor implement the Constellation Program and therefore, would forego the opportunity for human exploration of space using U.S. space vehicles.

DATES: NASA will issue a Record of Decision (ROD) for the proposed Constellation Program based on the Final PEIS no sooner than February 18, 2008, or 30 days from the date of publication in the Federal Register of the U.S. Environmental Protection Agency's notice of availability of the Final PEIS, whichever is later.

ADDRESSES: The Final PEIS may be examined at the following locations:

(a) NASA Headquarters, Library, Room 1J20, 300 E Street, SW., Washington, DC 20546-0001 (202-358-0168)

(b) NASA, Ames Research Center, Moffett Field, CA 94035 (650-604-3273)

(c) NASA, Dryden Flight Research Center, Edwards, CA 93523 (661-276-2704)

(d) NASA, George C. Marshall Space Flight Center, Huntsville, AL 35812 (256-544-1837)

(e) NASA, Goddard Space Flight Center, Greenbelt, MD 20771 (301-286-4721)

(f) NASA, John C. Stennis Space Center, MS 39529 (228-688-2118)

(g) NASA, John F. Kennedy Space Center, FL 32899 (321-867-2745)

(h) NASA, John H. Glenn Research Center at Lewis Field, Cleveland, OH 44135 (866-404-3642)

(i) NASA, Lyndon B. Johnson Space Center, Houston, TX 77058 (281-483-8612)

(j) NASA, Langley Research Center, Hampton, VA 23681 (757-864-2497)

(k) Jet Propulsion Laboratory, Pasadena, CA 91109 (818-393-6779).

Limited hard copies of the Final PEIS are available, on a first request basis, by contacting Kathleen Callister, NASA HQ, Environmental Management Division, 300E Street, SW., Washington, DC 20546, telephone 1-202-358-1953, or electronic mail at Kathleen.E.Callister@nasa.gov. The Final PEIS also is available on the internet in Adobe® portable document format at http://www.nasa.gov/mission_pages/constellation/main/peis.html. NASA's ROD will be made available, once issued, on the same Web site as above and by request to the contact information provided above.

FOR FURTHER INFORMATION CONTACT: ZA/Environmental Manager, Constellation Program, NASA Lyndon B. Johnson Space Center, 2101 NASA Parkway, Houston, Texas 77058, telephone (toll free) 1-866-662-7243, or electronic mail at nasa-cxeis@mail.nasa.gov. Additional Constellation Program information can also be found on the internet at http://www.nasa.gov/mission_pages/constellation/main/index.html. Information specific to the Constellation Program NEPA process can be found at http://www.nasa.gov/mission_pages/exploration/main/eis.html.

SUPPLEMENTARY INFORMATION: The Final PEIS addresses the environmental impacts associated with continuing preparations for and implementing the Constellation Program. The Constellation Program would build a new crew vehicle called the Orion and two new launch vehicles, Ares I to transport crew and Ares V to transport cargo (for lunar or Mars missions). The environmental impacts of principal concern are those that would result from fabrication, testing, and launch of the Orion spacecraft and the Ares I and Ares V launch vehicles.

The Constellation Program would be an extremely large and complex program spanning decades and requiring the efforts of a broad spectrum of talent located throughout NASA and many commercial entities. Under NASA's Proposed Action, Constellation Program activities would be expected to occur at the following NASA sites:

—John F. Kennedy Space Center, Brevard County, Florida

—John C. Stennis Space Center, Hancock County, Mississippi

—Michoud Assembly Facility, New Orleans, Louisiana

—Lyndon B. Johnson Space Center, Houston, Texas

—George C. Marshall Space Flight Center, Huntsville, Alabama

—John H. Glenn Research Center, Cleveland, Ohio

—Ames Research Center, Moffett Field, California

—Langley Research Center, Hampton, Virginia

—Johnson Space Center White Sands Test Facility (and the U.S. Army's White Sands Missile Range), Las Cruces, New Mexico

—Dryden Flight Research Center, Edwards Air Force Base, California

—Goddard Space Flight Center, Greenbelt, Maryland

—Jet Propulsion Laboratory, Pasadena, California.

Activities associated with the Constellation Program also would occur at two Alliant Techsystems-Launch Systems Group locations in Promontory and Clearfield, Utah and at various other commercial facilities throughout the United States.

Organizationally, the Constellation Program would consist of a single Program Office at NASA's Lyndon B. Johnson Space Center which would have overall responsibility for management of the Constellation Program, and multiple Project Offices including Project Orion, Project Ares, the Ground Operations Project, the Mission Operations Project, the Lunar Lander Project, and the Extravehicular Activities Systems Project. Each Project Office would focus on specific technology and systems development and operational capabilities for the Constellation Program. As additional mission requirements are developed, additional Project Offices would be established with the responsibility to develop the systems to meet such requirements (e.g., Lunar Surface Systems and Mars Surface Systems). Collectively, these Project Offices would develop the mission systems (i.e., crew vehicles, launch vehicles, and mission hardware) and the infrastructure needed to support crewed missions to the International Space Station and human exploration of the Moon, Mars, and beyond.

NASA published a Notice of Availability (NOA) of the Draft Constellation Programmatic Environmental Impact Statement on August 17, 2007 (72 FR 46218). NASA mailed over 300 hard copies and/or compact disks (CDs) of the Draft PEIS to potentially interested Federal, State, and local agencies; organizations; and individuals. In addition, the Draft PEIS was made publicly available in electronic format on NASA's Web site. NASA also sent electronic mail (e-mail) notifications to potentially interested individuals who had submitted scoping comments via e-mail but who had not provided a mailing address.

The public review and comment period for the Draft PEIS closed on September 30, 2007. NASA received a total of 21 submissions (letters and e-mails) from Federal, State, and local agencies; organizations; and individuals, of which, 14 submissions contained comments regarding the Constellation Program. Seven submissions only requested to be added to the mailing list to receive a copy of the Final PEIS. The comments are addressed in the Final PEIS in Appendix B. No alternatives to the Proposed Action were raised during the public review of the Draft PEIS.

Jeffrey A. Parker,
Deputy Assistant Administrator for Infrastructure and Administration.

[FR Doc. E8-1066 Filed 1-22-08; 8:45 am]

BILLING CODE 7510-13-P